DEPARTMENT OF THE INTERIOR

National Park Service

[NPS-WASO-NAGPRA-NPS0036138; PPWOCRADN0-PCU00RP14.R50000]

Notice of Inventory Completion: New York State Museum, Albany, NY

AGENCY: National Park Service, Interior.

ACTION: Notice.

SUMMARY: In accordance with the Native American Graves Protection and Repatriation Act (NAGPRA), the New York State Museum (NYSM), has completed an inventory of human remains and associated funerary objects and has determined that there is a cultural affiliation between the human remains and associated funerary objects and Indian Tribes or Native Hawaiian organizations in this notice. The human remains and associated funerary objects were removed from Albany and Washington Counties, NY.

DATES: Repatriation of the human remains and associated funerary objects in this notice may occur on or after August 7, 2023.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the NYSM. The National Park Service is not responsible for the determinations in this notice. Additional information on the determinations in this notice, including the results of consultation, can be found in the inventory or related records held by the NYSM.

Description

Between 1954 and 1974, human remains representing one individual were removed from the Menands Bridge site in Menands, Albany County, NY, during salvage excavations conducted by New York State Museum staff and avocational archeologists R. Arthur Johnson and C.S. Sundler. The 582 associated funerary objects are 80 chipped stone flakes, five bifaces, three projectile points, 48 pottery sherds, one pottery pipe bowl, one netsinker, 299 fragments of animal bone (including one dog), 14 shell beads, 70 shell fragments, three botanical samples, 10 charcoal samples, three soil samples, 43 unmodified stones, one fire-cracked rock, and one iron fragment. The Menands Bridge site is located within traditional Mohican territory. Based on their archeological context, the human remains and associated funerary objects probably date to the Lake Woodland period.

In 1969, associated funerary objects were removed from the Coffin site in Easton, Washington County, NY, during excavations conducted by the NYSM. The 46 associated funerary objects include six pottery fragments, 38 chipped stone flakes, one scraper, and one biface. The Coffin site is located within traditional Mohican territory. The archeological evidence dates the site to the Late Woodland period.

On October 4, 2001, the NYSM listed additional human remains and associated funerary objects from the above sites in the Federal Register (66 FR 50674-50675). On June 23, 2004, the NYSM repatriated them.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and linguistic.

Determinations

Pursuant to NAGPRA and its implementing regulations, and after consultation with the appropriate Indian Tribes and Native Hawaiian organizations, the NYSM has determined that:

• The human remains described in this notice represent the physical remains of one individual of Native American ancestry.

• The 628 objects described in this notice are reasonably believed to have been placed with or near individual human remains at the time of death or later as part of the death rite or ceremony.

• There is a relationship of shared group identity that can be reasonably traced between the human remains and associated funerary objects described in this notice and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 7, 2023. If competing requests for repatriation are received, the NYSM must determine the most appropriate requestor prior to repatriation. Requests for joint repatriation of the human remains and associated funerary objects are considered a single request and not competing requests. The NYSM is responsible for sending a copy of this notice to the Indian Tribe identified in this notice.

Authority: Native American Graves Protection and Repatriation Act, 25 U.S.C. 3003, and the implementing regulations, 43 CFR 10.9, 10.10, and 10.14.

Dated: June 28, 2023.
Melanie O'Brien,
Manager, National NAGPRA Program.

[FR Doc. 2023-14388 Filed 7-6-23; 8:45 am]

BILLING CODE 4312-52-P